DEPARTMENT OF VETERANS AFFAIRS

[OMB Control No. 2900-0712]

Agency Information Collection Activity: Survey of Healthcare Experiences of Patients (SHEP)

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed reinstatement of a currently approved collection, and allow 60 days for public comment in response to the notice.

DATES: Written comments and recommendations on the proposed collection of information should be received on or before January 2, 2018.

ADDRESSES: Submit written comments on the collection of information through Federal Docket Management System (FDMS) at www.Regulations.gov or to Brian McCarthy, Office of Regulatory and Administrative Affairs (10B4), Department of Veterans Affairs, 810 Vermont Avenue NW., Washington, DC 20420 or email to Brian.McCarthy4@va.gov. Please refer to “OMB Control No. 2900-0712” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: E.O. 12862—Setting Customer Service Standards.

Title: Survey of Healthcare Experiences of Patients (SHEP);

SHEP Inpatient Long Form: 10-1465-1

SHEP Inpatient Short Form: 10-1465-2

Ambulatory Care Long Form: 10-1465-3

Ambulatory Care Short Form: 10-1465-4

Clinician and Group CAHPS 3.0 Patient Centered Medical Home Short Form: 10-1465-5

Clinician and Group CAHPS 3.0 Patient Centered Medical Home Long Form: 10-1465-6

Home Healthcare CAHPS Long Form: 10-1465-7

In-Center Hemodialysis CAHPS Long Form: 10-1465-8

Clinician & Group CAHPS 3.0: 10-1465-9

SHEP Community Care survey: 10-1465-10

OMB Control Number: 2900-0712.

Type of Review: Reinstatement of a currently approved collection.

Abstract: The Survey of Health Experience of Patients (SHEP) has been developed to measure patient satisfaction in the Veterans Health Administration, and has been in use in its present form since 2008. The mission of the Veterans Health Administration (VHA) is to provide high quality medical care to eligible veterans. Executive Order 12862, dated September 11, 1993, calls for the establishment and implementation of customer service standards, and for agencies to “survey customers to determine the kind and quality of services they want and their level of satisfaction with current services”. Further emphasized by the Executive Order 13571, on “Streamlining Service Delivery and Improving Customer Service,” issued on April 27, 2011, VA must work continuously to ensure that their programs are effective and meet their customers' needs. To this end, VA is always seeking new and innovative ways to ensure the highest levels of customer satisfaction.

Affected Public: Individuals and households.

Estimated Annual Burden:

10-1465-1—160 hours.

10-1465-2—18,000 hours.

10-1465-3—160 hours.

10-1465-4—120 hours.

10-1465-5—48,000 hours.

10-1465-6—8,000 hours.

10-1465-7—80 hours.

10-1465-8—120 hours.

10-1465-9—30,000 hours.

10-1465-10—72,000 hours.

Estimated Average Burden per Respondent:

10-1465-1—20 minutes.

10-1465-2—15 minutes.

10-1465-3—20 minutes.

10-1465-4—15 minutes.

10-1465-5—10 minutes.

10-1465-6—20 minutes.

10-1465-7—10 minutes.

10-1465-8—15 minutes.

10-1465-9—15 minutes.

10-1465-10—15 minutes.

Frequency of Response: Annually.

Estimated Number of Respondents:

10-1465-1—480.

10-1465-2—72,000.

10-1465-3—480.

10-1465-4—480.

10-1465-5—288,000.

10-1465-6—24,000.

10-1465-7—480.

10-1465-8—480.

10-1465-9—120,000.

10-1465-10—288,000.

By direction of the Secretary.
Cynthia Harvey-Pryor,
Department Clearance Officer, Office of Quality, Privacy and Risk, Department of Veterans Affairs.

[FR Doc. 2017-23587 Filed 10-30-17; 8:45 am]

BILLING CODE 8320-01-P